Executive Order 14256 of April 2, 2025

Further Amendment to Duties Addressing the Synthetic Opioid Supply Chain in the People's Republic of China as Applied to Low-Value Imports

By the authority vested in me as President by the Constitution and the laws of the United States of America, including the International Emergency Economic Powers Act (50 U.S.C. 1701 et seq.) (IEEPA), the National Emergencies Act (50 U.S.C. 1601 et seq.), section 604 of the Trade Act of 1974, as amended (19 U.S.C. 2483), and section 301 of title 3, United States Code, it is hereby ordered:

Section 1. Purpose. Many shippers based in the People's Republic of China (PRC) hide illicit substances and conceal the true contents of shipments sent to the United States through deceptive shipping practices. These shippers often avoid detection due to administration of the de minimis exemption under section 321(a)(2)(C) of the Tariff Act of 1930, as amended (19 U.S.C. 1321(a)(2)(C)).

As noted in Executive Order 14195 of February 1, 2025 (Imposing Duties to Address the Synthetic Opioid Supply Chain in the People's Republic of China), as amended by Executive Order 14228 of March 3, 2025 (Further Amendment to Duties Addressing the Synthetic Opioid Supply Chain in the People's Republic of China), these exports play a significant role in the synthetic opioid crisis in the United States. In Executive Order 14200 of February 5, 2025 (Amendment to Duties Addressing the Synthetic Opioid Supply Chain in the People's Republic of China), I suspended the elimination of duty-free de minimis treatment on articles described in section 2(a) of Executive Order 14195. The Secretary of Commerce has notified me that adequate systems are now in place to process and collect tariff revenue for covered goods from the PRC otherwise eligible for duty-free de minimis treatment under 19 U.S.C. 1321(a)(2)(C). Accordingly, duty-free de minimis treatment under 19 U.S.C. 1321(a)(2)(C) shall no longer be available for products of the PRC (which include products of Hong Kong) described in section 2(a) of Executive Order 14195, as amended by Executive Order 14228, including international postal packages sent to the United States through the international postal network from the PRC or Hong Kong, that are entered for consumption, or withdrawn from warehouse for consumption, on or after 12:01 am eastern daylight time on May 2, 2025. Additional duties for such imported merchandise shall be collected at the rates described in this order.

Sec. 2. Assessment of Duties on Low-Value Products of the PRC. (a) Other than articles sent to the United States through the international postal network (for which a duty is separately provided as described in subsections (b) and (c) of this section), all shipments of articles described in section 2(a) of Executive Order 14195, as amended by Executive Order 14228, that are products of the PRC or Hong Kong; that are sent to the United States; that are valued at or under 800 dollars and that would otherwise qualify for the de minimis exemption authorized in 19 U.S.C. 1321(a)(2)(C); and that are entered for consumption, or withdrawn from warehouse for consumption, on or after 12:01 am eastern daylight time on May 2, 2025, shall be entered by a party qualified to make entry under another appropriate entry type in the Automated Commercial Environment (ACE) operated by U.S. Customs and Border Protection (CBP) of the Department of Homeland Security, with all applicable duties, including those imposed by section 2(a) of Executive Order 14195, as amended by Executive Order 14228, and paid in accordance with the applicable entry and payment procedures. Executive departments and agencies, including the Department of Homeland Security, through CBP, shall take all necessary actions to effectuate the objectives of this order, consistent with applicable law, including through temporary suspension or amendment of regulations or notices in the Federal Register. The United States International Trade Commission shall continue to act ministerially by modifying the Harmonized Tariff Schedule of the United States (HTSUS), as needed, to reflect the actions set out in this order.

(b) Imposition of Duty.

(i) All postal items containing goods described in section 2(a) of Executive Order 14195 and sent to the United States through the international postal network from the PRC or Hong Kong and transported by carriers that are valued at or under 800 dollars and that would otherwise qualify for the de minimis exemption authorized in 19 U.S.C. 1321(a)(2)(C) shall be subject to the duties described in subsection (c) of this section. In order to address the threat of the PRC's failure to act to blunt the sustained influx of synthetic opioids into the United States, while allowing for the orderly flow of legitimate international mail, the duties imposed in subsection (c) of this section, except as required by applicable law, are imposed in lieu of any other duties that the shipments would otherwise be subject to, including the 20 percent ad valorem duty established in Executive Order 14195, as amended by Executive Order 14228; most-favored nation rates embodied in the HTSUS; and duties imposed pursuant to section 301 of the Trade Act of 1974.

(ii) CBP is authorized to require the carrier transporting the international postal package into the United States to remit payment of the duty described in subsection (c) of this section to CBP monthly or on such other periodic time frame as CBP determines appropriate, and CBP may issue regulations and guidance as necessary or appropriate to implement and enforce this requirement.

(iii) All carriers that transport international postal packages from the PRC or Hong Kong to the United States as part of or on behalf of the international postal network must report to CBP the total number of postal items containing goods and, if electing the duty rate specified in subsection (c)(i) of this section, the value of each postal item containing goods, transported per conveyance, in a timeframe and manner prescribed by CBP. CBP may require submission of documentation and information from the carrier to verify the total number and value of individual postal items containing goods to be electronically transmitted through the ACE.

(c) Duty Rates. Transportation carriers delivering shipments to the United States from the PRC or Hong Kong sent through the international postal network must collect and remit duties to CBP under the approach outlined in either subsection (c)(i) or subsection (c)(ii) of this section. Transportation carriers must apply the same duty collection methodology to all shipments; however, transportation carriers may change their collection methodology once a month or on such other periodic timeframe as CBP determines appropriate, upon providing 24-hour notice to CBP.

(i) Ad Valorem Duty. 30 percent of the value of the postal item containing goods for merchandise entered for consumption on or after 12:01 am eastern daylight time on May 2, 2025.

(ii) Specific Duty. 25 dollars per postal item containing goods for merchandise entered for consumption on or after 12:01 am eastern daylight time on May 2, 2025, and before 12:01 am eastern daylight time on June 1, 2025, and 50 dollars per postal item containing goods for merchandise entered for consumption on or after 12:01 am eastern daylight time on June 1, 2025.

(d) Bond Requirement. Any carrier that transports international postal items containing goods from the PRC or Hong Kong to the United States, by any mode of transportation, must have an international carrier bond to ensure payment of the duty described in subsections (b) and (c) of this section. CBP is authorized to ensure that the international carrier bonds required by this subsection are sufficient to account for the duty described in subsections (b) and (c) of this section.

(e) Discretion to Require Formal Entry. CBP may require formal entry, in accordance with existing regulations, for any international postal package that may otherwise be subject to the duty described in subsections (b) and (c) of this section. An international postal package for which CBP requires formal entry will not be subject to the duty described in subsections (b) and (c) of this section, and instead will be subject to all applicable duties, taxes, and fees in accordance with all applicable laws.

Sec. 3. Implementation of Duty. The Secretary of Homeland Security is directed to take all necessary actions to implement this order. Consistent with section 4 of Executive Order 14195, the Secretary of Homeland Security, in consultation with the Secretary of the Treasury, the Attorney General, and the Secretary of Commerce, is authorized to take such actions, including adopting rules and regulations, and to employ all powers granted to the President by IEEPA as may be necessary to implement this order.

Sec. 4. Homeland Security Authorities. Nothing in this order limits the ability of the Department of Homeland Security to use any available legal authorities granted to ensure compliance with the provisions of this order.

Sec. 5. Monitoring. Within 90 days of the date of this order, the Secretary of Commerce, in consultation with the United States Trade Representative, shall submit a report to the President regarding the impact of this order on American industries, consumers, and supply chains and making recommendations for further action as he deems necessary, including a recommendation on whether extending de minimis ineligibility to packages from Macau is necessary to prevent circumvention of this order.

Sec. 6. General Provisions. (a) Nothing in this order shall be construed to impair or otherwise affect:

(i) the authority granted by law to an executive department, agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

April 2, 2025.

[FR Doc. 2025-06027

Filed 4-4-25; 8:45 am]

Billing code 3395-F4-P